NATIONAL TRANSPORTATION SAFETY BOARD

Agenda; Sunshine Act Meeting

Time and Date: 9:30 a.m., Tuesday, October 27, 2009.

Place: NTSB Conference Center, 429 L'Enfant Plaza SW., Washington, DC 20594.

Status: The TWO item are open to the public.

Matters To Be Considered:

8067A—Aircraft Accident Report—Crash During Approach to Landing of Maryland State Police Aerospatiale SA365N1, N92MD, District Heights, Maryland, September 27, 2008.

8078A—Highway Accident Report—Motorcoach Run-off-the-Bridge and Rollover, Sherman, Texas, August 8, 2008.

News Media Contact: Telephone: (202) 314-6100.

The press and public may enter the NTSB Conference Center one hour prior to the meeting for set up and seating.

Individuals requesting specific accommodations should contact Rochelle Hall at (202) 314-6305 by Friday, October 23, 2009.

The public may view the meeting via a live or archived Web cast by accessing a link under “News & Events” on the NTSB home page at http://www.ntsb.gov.

For More Information Contact: Candi Bing, (202) 314-6403.

Dated: October 9, 2009.
Candi R. Bing,
Alternate Federal Register Liaison Officer.

[FR Doc. E9-24819 Filed 10-9-09; 4:15 pm]

BILLING CODE 7533-01-P